DEPARTMENT OF COMMERCE

Bureau of Industry and Security

[Docket No. 050923246-5246-01]

National Defense Stockpile Market Impact Committee Request for Public Comments on the Potential Market Impact of Proposed Stockpile Disposals for FY 2007

AGENCY: U.S. Department of Commerce.

ACTION: Notice of inquiry.

SUMMARY: This notice is to advise the public that the National Defense Stockpile Market Impact Committee, co-chaired by the Departments of Commerce and State, is seeking public comments on the potential market impact of the proposed disposal levels for excess materials from the National Defense Stockpile for the Fiscal Year (FY) 2007 Annual Materials Plan (AMP).

DATES: Comments must be received by November 7, 2005.

ADDRESSES: Written comments should be sent to either William J. Denk, Co-chair, National Defense Stockpile Market Impact Committee, Office of Strategic Industries and Economic Security, Room 3876, Bureau of Industry and Security, U.S. Department of Commerce, 14th Street and Constitution Avenue, NW., Washington, DC 20230; Fax: (202) 482-5650; E-mail: wdenk@bis.doc.gov; or to Stanley Specht, Co-chair, National Defense Stockpile Market Impact Committee, Office of Bilateral Trade Affairs, Bureau of Economic and Business Affairs, U.S. Department of State, Fax: (202) 647-8758; E-mail: spechtsh@state.gov.

FOR FURTHER INFORMATION CONTACT: Eddy Aparicio, Office of Strategic Industries and Economic Security, Bureau of Industry and Security, U.S. Department of Commerce, telephone: (202) 482-8234; E-mail: eaparici@bis.doc.gov.

SUPPLEMENTARY INFORMATION: Under the authority of the Strategic and Critical Materials Stock Piling Act of 1979, as amended (50 U.S.C. 98 et seq.), the Department of Defense (DOD), as National Defense Stockpile Manager, maintains a stockpile of strategic and critical materials to supply the military, industrial, and essential civilian needs of the United States for national defense. Section 3314 of the Fiscal Year (FY) 1993 National Defense Authorization Act (NDAA) (50 U.S.C. 98h-1) formally established a Market Impact Committee (the Committee) to “advise the National Defense Stockpile Manager on the projected domestic and foreign economic effects of all acquisitions and disposals of materials from the stockpile * * *” The Committee must also balance market impact concerns with the statutory requirement to protect the Government against avoidable loss.

The Committee is comprised of representatives from the Departments of Commerce, State, Agriculture, Defense, Energy, Interior, Treasury, and Homeland Security, and is co-chaired by the Departments of Commerce and State. The FY 1993 NDAA directs the Committee to consult with industry representatives that produce, process, or consume the materials contained in the stockpile.

In Attachment 1, the Defense National Stockpile Center (DNSC) lists the proposed quantities that are enumerated in the stockpile inventory for the FY 2007 Annual Materials Plan (AMP). The Committee is seeking public comments on the potential market impact of the sale of these materials.

The quantities listed in Attachment 1 are not disposal or sale target quantities. They are only a statement of the proposed maximum disposal quantity of each listed material that may be sold in a particular fiscal year by the DNSC. The quantity of each material that will actually be offered for sale will depend on the market for the material at the time of the offering as well as on the quantity of each material approved for disposal by Congress.

The Committee requests that interested parties provide written comments, supporting data and documentation, and any other relevant information on the potential market impact of the sale of these commodities. Although comments in response to this Notice must be received by November 7, 2005 to ensure full consideration by the Committee, interested parties are encouraged to submit comments and supporting information at any time thereafter to keep the Committee informed as to the market impact of the sale of these commodities. Public comments are an important element of the Committee's market impact review process.

Public comments received will be made available at the Department of Commerce for public inspection and copying. Anyone submitting business confidential information should clearly identify the business confidential portion of the submission and also provide a non-confidential submission that can be placed in the public record. The Committee will seek to protect such information to the extent permitted by law.

The records related to this Notice will be made accessible in accordance with the regulations published in Part 4 of Title 15 of the Code of Federal Regulations (15 CFR 4.1, et seq.). Specifically, the Bureau of Industry and Security's Freedom of Information Act (FOIA) reading room is located on its Web page found at http://www.bis.doc.gov/foia/default.htm. Copies of the public comments received will be maintained on the Web site. If requesters cannot access the Web site, they may call (202) 482-2165 for assistance.

Dated: September 30, 2005.
Matthew S. Borman,
Deputy Assistant Secretary for Export Administration.

Attachment 1

Proposed FY 2007 Annual Materials Plan
Material | Unit | Quantity | Footnote
Aluminum Oxide, Abrasive | ST | 6,000
Bauxite, Metallurgical Jamaican | LDT | 2,000,000
Bauxite, Metallurgical Surinam | LDT | 2,000
Bauxite, Refractory | LCT | 10,000
Beryl Ore | ST | 4,000
Beryllium Metal | ST | 40
Beryllium Copper Master Alloy | ST | 1,200
Chromite, Chemical | SDT | 5,000
Chromite, Refractory | SDT | 93,000
Chromium, Ferro | ST | 150,000
Chromium, Metal | ST | 1,000
Cobalt | LB Co | 2,000,000 | 1
Columbium Concentrates | LB Cb | 560,000
Columbium Metal Ingots | LB Cb | 20,000
Diamond Stone | ct | 520,000 | 1
Fluorspar, Acid Grade | SDT | 12,000 | 1
Fluorspar, Metallurgical Grade | SDT | 60,000 | 1
Germanium | Kg | 8,000
Graphite | ST | 60 | 1
Iodine | LB | 1,000,000 | 1
Jewel Bearings | PC | 82,051,558 | 1
Lead | ST | 35,000 | 1
Manganese, Battery Grade, Natural | SDT | 30,000 | 1
Manganese, Battery Grade, Synthetic | SDT | 3,011
Manganese, Chemical Grade | SDT | 40,000
Manganese, Ferro | ST | 100,000
Manganese, Metallurgical Grade | SDT | 500,000
Mica, All | LB | 17,000 | 1
Platinum | Tr Oz | 9,000 | 1
Platinum—Iridium | Tr Oz | 6,000
Quinidine | Av Oz | 21,000
Talc | ST | 1,000
Tantalum Carbide Powder | LB Ta | 4,000
Tantalum Metal Powder | LB Ta | 10,000 | 1
Tantalum Minerals | LB Ta | 500,000
Tantalum Oxide | LB Ta | 20,000
Tin | MT | 12,000
Tungsten Ferro | LB W | 300,000 | 1
Tungsten Metal Powder | LB W | 300,000
Tungsten Ores & Concentrates | LB W | 8,000,000
VTE, Chestnut | LT | 120 | 1
VTE, Quebracho | LT | 6,000
VTE, Wattle | LT | 300 | 1
Zinc | ST | 50,000
Notes:
1. Actual quantity will be limited to remaining inventory.

[FR Doc. 05-20044 Filed 10-5-05; 8:45 am]

BILLING CODE 3510-33-P